DEPARTMENT OF THE INTERIOR

Bureau of Land Management

[WY-030-07-5101-ER-K087; WYW-166510]

Notice of Availability (NOA) To Announce the Release of the Overland Pass Natural Gas Liquids Pipeline Draft Environmental Impact Statement (DEIS)

AGENCY: Bureau of Land Management, Interior.

ACTION: Notice.

SUMMARY: The Bureau of Land Management (BLM) announces the availability of the Overland Pass (OP) Natural Gas Liquids (NGL) Pipeline DEIS. The DEIS analyzes the consequences of granting a Right-of-Way (ROW) to the Overland Pass Pipeline Company, LLC for locating a 760-mile, 14-inch and 16-inch diameter NGL pipeline on Federal land.

DATES: The BLM will review all public comments if they are submitted within 45 days following the date the Environmental Protection Agency (EPA) publishes this NOA in the Federal Register. All public meetings or other involvement activities for the OP NGL Pipeline project will be announced to the public by the BLM at least 15 days in advance through public notices, media news releases, Web site announcements, or mailings. The BLM will not be holding formal public hearings on this DEIS.

ADDRESSES: Copies of the DEIS have been sent to affected Federal, State, and local governments and to interested parties that previously requested a copy. The DEIS and supporting documents will be available electronically on the following Web site: http://www.wy.blm.gov/nepa/index.htm.

Copies of the DEIS are available for public inspection during normal business hours at the following locations:

• Bureau of Land Management, Wyoming State Office, Public Room, 5353 Yellowstone, Cheyenne, Wyoming 82003;

• Bureau of Land Management, Rawlins Field Office, 1300 North Third St, Rawlins, Wyoming 82301;

• Bureau of Land Management, Rock Springs Field Office, 280 Highway 191 N., Rock Springs, Wyoming 82901;

• Bureau of Land Management, Kemmerer Field Office, 312 Highway 189 N., Kemmerer, Wyoming 83101; and

• U.S. Department of Agriculture, Pawnee National Grasslands, 660 O Street, Greeley, Colorado 80631.

Copies of the DEIS will also be delivered to public libraries in the following communities:

• Green River, Rock Springs, Rawlins, Laramie, and Cheyenne, Wyoming;

• Greeley, Fort Collins, Yuma, and Wray, Colorado; and

• Colby, WaKeeney, Hays, and McPherson, Kansas.

A limited number of copies of the document will be available as long as supplies last. To request a copy, contact Tom Hurshman, Project Manager, as described below.

Written comments may be submitted by the following methods:

• Web site: http://www.blm.gov/rfo/nepa.htm.

• E-mail: overland_pipeline_wy@blm.gov.

• Facsimile: (307) 328-4224 Attn: Tom Hurshman, or

• Mail: Tom Hurshman, Project Manager, Bureau of Land Management, Rawlins Field Office, 1300 North Third St, Rawlins, Wyoming 82301.

FOR FURTHER INFORMATION CONTACT: Tom Hurshman, Project Manager, Bureau of Land Management, Uncompahgre Field Office, 2465 South Townsend Ave., Montrose, CO 81401. Mr. Hurshman may be reached by telephone at (970) 240-5345.

SUPPLEMENTARY INFORMATION: The project would transport up to 150,000 barrels per day of NGL. The proposed OP Pipeline would originate in Opal, Wyoming, and terminate at existing NGL processing facilities in Conway, Kansas. The OP Pipeline route would cross approximately 123 miles of Federal land in Wyoming and Colorado. In Wyoming, approximately 98 miles of the proposed pipeline route would cross public lands administered by three BLM Field Offices: Kemmerer, Rock Springs, and Rawlins.

In addition, the OP Pipeline location would cross two units of the National Forest System administered by the United States Department of Agriculture, Forest Service. The proposed pipeline location includes approximately 2 miles of the Flaming Gorge National Recreation Area, and approximately 23 miles of the Pawnee National Grassland north of Greeley, Colorado. No Federal land in Kansas would be affected by this proposal.

In the fall of 2005, Williams Field Services, doing business as Overland Pass Pipeline Company LLC (Overland Pass Company), submitted to the BLM an application for a ROW grant across Federal lands to locate a pipeline up to 20 inches in diameter that would be used to transport NGLs from Opal, Wyoming, to an existing processing facility in Conway, Kansas. (NGLs are naturally occurring heavier hydrocarbon liquids that are associated with the production of natural gas such as methane. NGLs include ethane and are primarily used to produce plastics, propane, butanes, and natural gasoline.) On March 24, 2006, the BLM published in the Federal Register a Notice of Intent (NOI ) to prepare an Environmental Impact Statement (EIS) under the National Environmental Policy Act (NEPA) and as required by 43 Code of Federal Regulations Part 2880. To allow the public an opportunity to review the proposal and project information, the BLM held public meetings during April 2006 in Rock Springs and Cheyenne, Wyoming; Greeley, Colorado; and Hays, Kansas. Potential impacts to specific resources such as water quality and quantity, threatened and endangered and sensitive species, construction impacts to vegetation communities and historic trails, and pipeline route and location near residential development were identified during scoping and analyzed in the DEIS. Overland Pass Company made a number of minor re-routes to their original proposal as submitted.

Three actions were analyzed in the DEIS: No Action Alternative; Proposed Action Alternative, and the Southern Energy Corridor. The No Action Alternative means that the project as proposed by Overland Pass Company in its ROW application would be rejected by the BLM. Under the No Action Alternative, the BLM would not issue a ROW grant for the OP Pipeline. The project, including the pipeline, temporary access roads, and temporary use areas during construction, would not be approved or authorized as described in the ROW application. The BLM's preferred alternative is the Proposed Action Alternative. The Proposed Action Alternative analyzed in the DEIS reflects minor revisions to the original route as proposed by Overland Pass Company. The Southern Energy Corridor Alternative reflects the Green River Resource Management Plan's preferred locations for future proposed ROWS. Other alternatives, including transportation system alternatives and route variations, were considered, but not studied in detail.

The DEIS analyzes the potential environmental consequences of granting Overland Pass Company a ROW to construct an approximately 760-mile pipeline that would transport NGLs from Opal, Wyoming, to its terminus at the company's existing facilities in Conway, Kansas. The pipeline would be approximately 14 inches in diameter between Opal and Echo Springs, Wyoming, and 16 inches in diameter from Echo Springs, Wyoming, to Conway, Kansas.

As part of the proposed action, the OP Pipeline would be routed across southern Wyoming from Opal to Echo Springs along various existing utility or pipeline ROWs. From Echo Springs, the pipeline ROW would run in a southeasterly direction, paralleling the existing Southern Star Pipeline, and proceed to the south of Cheyenne, Wyoming, before entering Colorado. A major portion of the proposed route in Wyoming would cross public lands administered by the BLM.

From the Colorado border, the pipeline ROW would continue to parallel Southern Star Pipeline southeasterly crossing the Pawnee National Grassland, which is administered by the USDA Forest Service, and then into Kansas. From the Colorado-Kansas state line, the OP Pipeline would continue to run parallel to the Southern Star Pipeline to south of WaKeeney, Kansas. It would then follow an existing BP Amoco pipeline to Bushton, Kansas. From this point, the OP Pipeline would not parallel existing pipelines until reaching Mitchell, Kansas, where it would then follow an existing Williams Pipeline to the termination point at Conway, Kansas.

At Bushton and Conway, Kansas, the transported NGL would be processed at existing facilities and distributed through an existing transportation infrastructure to consumer markets in the Midwest and Texas Gulf of Mexico coast. About 82 percent of the proposed 760-mile pipeline would be co-located within existing pipeline ROW corridors. In addition to the pipeline, three electric pump stations would be needed to move the NGL at a maximum pressure of 1,440 pounds per square inch gauge (psig) through the pipeline. The pump stations are proposed to be located near Echo Springs and Laramie, Wyoming, and near WaKeeney, Kansas. The pipeline would have manual or self-actuating shut-off valves at regular intervals, as well as cleaning facilities and meter stations.

The OP Pipeline would be constructed and installed within a 75-foot-wide construction area. After construction and reclamation, the permanent ROW would be 50 feet wide, centered on the pipeline. All temporary workspace areas needed for construction activities outside the 50 foot wide permanent ROW would require Temporary Use Permits.

All comment submittals must include the commenter's name and street address. Comments, including the names and street addresses of respondent, will be available for public review at the Rawlins Field Office during its business hours (7:45 a.m. to 4:30 p.m.), Monday through Friday, except for Federal holidays. Before including your address, phone number, e-mail address, or other personal identifying information in your comment, be advised that your entire comment, including your personal identifying information may be made publicly available at any time. While you can ask us in your comment to withhold from public review your personal identifying information, we cannot guarantee that we will be able to do so.

Dated: February 21, 2007.
Robert A. Bennett,
State Director.

[FR Doc. E7-5575 Filed 3-29-07; 8:45 am]

BILLING CODE 4310-22-P